DEPARTMENT OF JUSTICE

Bureau of Alcohol, Tobacco, Firearms and Explosives

[OMB Number 1140-0024]

Agency Information Collection Activities; Proposed eCollection of eComments Requested; Revision of a Currently Approved Collection; Report of Firearms Transactions—Demand 2—ATF Form 5300.5

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The proposed information collection OMB 1140-0024 (Report of Firearms Transactions—Demand 2—ATF Form 5300.5) is being renamed (Demand 2 Program: Report of Firearms Transactions—ATF Form 5300.5), to clearly identify the firearms transactions affected by this collection. There is also an increase in the total annual respondents, responses, and burden hours. The proposed (IC) is also being published to obtain comments from the public and affected agencies.

DATES: Comments are encouraged and will be accepted for 60 days until September 28, 2021.

FOR FURTHER INFORMATION CONTACT: If you have additional comments, regarding the estimated public burden or associated response time, suggestions, or need a copy of the proposed information collection instrument with instructions, or additional information, please contact: Neil Troppman, Law Enforcement Support Branch, National Tracing Center Division either by mail at 244 Needy Road, Martinsburg, WV 25405, by email at neil.troppman@atf.gov, or by telephone at 304-260-3643.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection (check justification or form 83): Revision of a currently approved collection.

2. The Title of the Form/Collection: Report of Firearms Transactions—Demand 2.

3. The agency form number, if any, and the applicable component of the Department sponsoring the collection:

Form number (if applicable): ATF Form 5300.5.

Component: Bureau of Alcohol, Tobacco, Firearms and Explosives, U.S. Department of Justice.

4. Affected public who will be asked or required to respond, as well as a brief abstract:

Primary: Business or other for profit.

Other (if applicable): None.

Abstract: The Demand 2 Program requires Federal Firearm Licensees (FFLs) with 25 or more traces with a time to crime of three years or less in a calendar year, to submit an annual Report of Firearms Transactions—Demand 2—ATF Form 5300.5, followed by quarterly reports of used firearms acquired by the FFL.

5. An estimate of the total number of respondents and the amount of time estimated for an average respondent to respond: An estimated 628 respondents will use the form approximately four times annually, and it will take each respondent approximately 30 minutes to complete their responses.

6. An estimate of the total public burden (in hours) associated with the collection: The estimated annual public burden associated with this collection is 1,256 hours, which is equal to 628 (# of respondents) * 4 (# of responses per respondent) * .5 (30 minutes).

7. An Explanation of the Change in Estimates: Due to an increase in the number of FFLs subject to the reporting requirements of the Demand 2 program, the total respondents, responses, and burden hours for this collection have increased by 233, 932, and 466 respectively, since the last renewal in 2018.

If additional information is required contact: Melody Braswell, Department Clearance Officer, United States Department of Justice, Justice Management Division, Policy and Planning Staff, Two Constitution Square, 145 N Street NE, 3E.405A, Washington, DC 20530.

Dated: July 27, 2021.
Melody Braswell,
Department Clearance Officer for PRA, U.S. Department of Justice.

[FR Doc. 2021-16317 Filed 7-29-21; 8:45 am]

BILLING CODE 4410-FY-P